INTERNATIONAL TRADE COMMISSION

[Investigation No. 337-TA-1209 (Modification)]

Certain Movable Barrier Operator Systems and Components Thereof; Commission Determination To Amend the Notice of Investigation and Institute a Modification Proceeding; Issuance of a Modified Limited Exclusion Order and a Modified Cease and Desist Order; Termination of the Modification Proceeding

AGENCY: U.S. International Trade Commission.

ACTION: Notice.

SUMMARY: Notice is hereby given that the U.S. International Trade Commission has determined to amend the notice of investigation to clarify that the scope of the investigation includes garage door openers, gate operators, and commercial operators. The Commission has also determined to institute a modification proceeding and modify the limited exclusion order (“LEO”) and the cease and desist order (“CDO”) (collectively, “the remedial orders”) issued in this investigation to explicitly recite garage door openers, gate operators, and commercial operators in the definition of covered products or articles. The modification proceeding is terminated.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On August 10, 2020, the Commission instituted this investigation under section 337 of the Tariff Act of 1930, as amended, 19 U.S.C. 1337 (“section 337”), based on a complaint filed by Overhead Door Corporation of Lewisville, Texas and GMI Holdings Inc. of Mount Hope, Ohio (collectively, “Complainants”). See 85 FR 48264-65 (Aug. 10, 2020). The complaint, as supplemented, alleges a violation of section 337 based upon the importation into the United States, the sale for importation, and the sale within the United States after importation of certain movable barrier operator systems and components thereof by reason of infringement of U.S. Patent Nos. 8,970,345 (“the '345 patent”); 7,173,516 (“the '516 patent”); 7,180,260 (“the '260 patent”); 9,483,935 (“the '935 patent”); 7,956,718 (“the '718 patent”); and 8,410,895 (“the '895 patent”). See id. The notice of investigation states that the scope of the investigation is defined as “garage door systems and components thereof, remote controls, wireless transmitters, and software for operating the garage door systems.” See id. The notice of investigation names The Chamberlain Group, Inc. (“Respondent”) of Oak Brook, Illinois as the respondent in this investigation. See id. The Office of Unfair Import Investigations is not a party to the investigation. See id.

On February 10, 2021, the Commission terminated the investigation as to the '516 patent based on the withdrawal of the allegations in the complaint as to that patent. See Order No. 10 (Jan. 19, 2021), unreviewed by Comm'n Notice (Feb. 10, 2021).

On September 14, 2021, the presiding Administrative Law Judge issued a final initial determination finding a violation of section 337 with respect to the '345, '935, '260, '718, and '895 patents.

On February 9, 2022, the Commission issued a final determination finding a violation of section 337, based on Respondent's infringement of the asserted claims of the '935 patent, the '718 patent, and the '895 patent, but not the '345 and '260 patents. See 87 FR 8605-06 (Feb. 15, 2022). The Commission further determined, upon consideration of the public interest, to: (1) Issue an LEO against Respondent's infringing products and a CDO against the Respondent; and (2) set a bond during the period of Presidential review in the amount of one hundred (100) percent of the entered value of the infringing articles. See id.

On February 28, 2022, Complainants filed an expedited motion to clarify, or in the alternative, a petition for a modification proceeding requesting the Commission to confirm that the remedial orders cover garage door openers, gate operators, and commercial operators. On March 10, 2022, Respondent filed a response in opposition to Complainants' motion and/or petition. On March 17, 2022, Complainants filed a notice of supplemental facts in support of their motion and/or petition. On March 18, 2022, Respondent filed a response to Complainants' notice of supplemental facts.

Having reviewed the record of the underlying violation investigation, as well as the parties' submissions in connection with the motion and/or petition, the Commission has determined to grant both forms of requested relief, i.e., clarification and modification. Specifically, the Commission has determined to clarify that the notice of investigation and the remedial orders as originally issued cover garage door openers, gate operators, and commercial operators. In addition, to provide further clarity, the Commission has determined to amend the notice of investigation to define the accused products and the scope of the investigation as “garage door systems and components thereof, including garage door openers, gate operators, commercial operators, remote controls, wireless transmitters, and software for operating the garage door systems.” Furthermore, the Commission has determined to institute a modification proceeding and modifies the remedial orders to explicitly recite “garage door openers, gate operators, and commercial operators” in the definition of covered products or articles. The modification proceeding is terminated. A Commission opinion is issued herewith.

The Commission's vote on this determination took place on March 30, 2022.

The authority for the Commission's determination is contained in section 337 of the Tariff Act of 1930, as amended (19 U.S.C. 1337), and in part 210 of the Commission's Rules of Practice and Procedure (19 CFR part 210).

By order of the Commission.
Issued: March 30, 2022.
Lisa Barton,
Secretary to the Commission.

[FR Doc. 2022-07096 Filed 4-4-22; 8:45 am]

BILLING CODE 7020-02-P